DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 3, 2007.

Interested persons are invited to submit written comments regarding the subject matter of the investigations to the Director, Division of Trade Adjustment Assistance, at the address shown below, not later than December 3, 2007.

The petitions filed in this case are available for inspection at the Office of the Director, Division of Trade Adjustment Assistance, Employment and Training Administration, U.S. Department of Labor, Room C-5311, 200 Constitution Avenue, NW., Washington, DC 20210.

Signed at Washington, DC, this 13th day of November 2007.
Ralph DiBattista,
Director, Division of Trade Adjustment Assistance.

Appendix.—TAA Petitions Instituted Between 11/5/07 and 11/9/07
TA-W | Subject firm (petitioners) | Location | Date of institution | Date of petition
62405 | Goodyear Tire and Rubber Company (State) | Tyler, TX | 11/05/07 | 11/02/07
62406 | Ceratizit South Carolina (Comp) | Columbia, SC | 11/05/07 | 11/02/07
62407 | Eastprint, Inc. (Comp) | North Andover, MA | 11/05/07 | 11/01/07
62408 | PQ Corporation (Union) | Anderson, IN | 11/05/07 | 11/05/07
62409 | Stanric, Inc. (State) | Fajardo, PR | 11/05/07 | 11/01/07
62410 | Small-Pak Chemicals, Inc. (Comp) | Pineville, NC | 11/05/07 | 11/02/07
62411 | A.O. Smith Electrical Products Company (Comp) | Scottsville, KY | 11/05/07 | 11/02/07
62412 | Walter Drake, Inc. (Comp) | Holyoke, MA | 11/05/07 | 10/19/07
62413 | Simclar (North America), Inc. (Comp) | Winterville, NC | 11/06/07 | 11/05/07
62414 | Consistent Textile Industries, Inc. (Comp) | Dallas, NC | 11/06/07 | 11/05/07
62415 | Bernard Chaus/Cynthia Steffe (UNITE) | Secaucus, NJ | 11/06/07 | 11/05/07
62416 | 4 Corners Pine/Div. of Wells Eagle, Inc. (Wkrs) | Trout Creek, MT | 11/06/07 | 10/26/07
62417 | Avery Dennison Corporation (Comp) | Greensboro, NC | 11/06/07 | 11/05/07
62418 | Computer Sciences Corporation (Comp) | Dallas, TX | 11/06/07 | 11/05/07
62419 | Flowserve Corporation (Comp) | Dayton, OH | 11/06/07 | 11/05/07
62420 | Johnson Hosiery Mills, Inc. (Comp) | Hickory, NC | 11/06/07 | 11/02/07
62421 | RCN Corporation (Comp) | Wilkes-Barre, PA | 11/07/07 | 10/19/07
62422 | Curtain and Drapery Fashions (Comp) | Lowell, NC | 11/07/07 | 11/01/07
62423 | KLA-Tencor (Wkrs) | Tucson, AZ | 11/07/07 | 11/02/07
62424 | Tanner Companies LLC (Wkrs) | Rutherfordton, NC | 11/07/07 | 10/31/07
62425 | Stoney Point Products (State) | New Ulm, MN | 11/07/07 | 11/06/07
62426 | Flextronics Enclosures (Wkrs) | Youngsville, NC | 11/07/07 | 11/06/07
62427 | CNI/UTI (Wkrs) | Cadillac, MI | 11/07/07 | 11/06/07
62428 | Home Products International (Comp) | Mooresville, NC | 11/07/07 | 11/06/07
62429 | Covalence Plastic (State) | City of Industry, CA | 11/07/07 | 10/26/07
62430 | Pageland Screen Printers (Comp) | Pageland, SC | 11/07/07 | 11/06/07
62431 | Bierner Hat Company (Comp) | Dallas, TX | 11/08/07 | 11/07/07
62432 | LEM Industries, Inc. (Comp) | Obetz, OH | 11/08/07 | 11/07/07
62433 | Lawrence Sewing (Wkrs) | San Francisco, CA | 11/08/07 | 11/07/07
62434 | Arrow Industries, Inc./Arrow Home Fashion (Comp) | Anaheim, CA | 11/08/07 | 11/06/07
62435 | Huffman Finishing Company, Inc. (Wkrs) | Granite Falls, NC | 11/08/07 | 11/05/07
62436 | Councill Company LLC (Wkrs) | Denton, NC | 11/08/07 | 11/07/07
62437 | Mirador International, LLC (Wkrs) | High Point, NC | 11/09/07 | 11/07/07
62438 | Chrysler LLC (UAW) | Fenton, MO | 11/09/07 | 11/07/07
62439 | PI, Inc./Custom Molding Divison (Comp) | Athens, GA | 11/09/07 | 11/08/07
62440 | Evergy, Inc./Vitrus Division (Comp) | Pawtucket, RI | 11/09/07 | 11/08/07
62441 | Hitachi Gst (Wkrs) | San Jose, CA | 11/09/07 | 11/07/07
62442 | Infinite Graphics, Inc. (State) | Minneapolis, MN | 11/09/07 | 11/08/07
62443 | Booth Electrosystems, Inc. (Comp) | Greeneville, SC | 11/09/07 | 10/18/07

[FR Doc. E7-22744 Filed 11-20-07; 8:45 am]

BILLING CODE 4510-FN-P